COMMISSION ON CIVIL RIGHTS

Notice of Public Meeting of the West Virginia Advisory Committee

Correction

AGENCY: Commission on Civil Rights.

ACTION: Notice; revision to meeting link & meeting ID.

SUMMARY: The Commission on Civil Rights published a notice in the Federal Register on Tuesday, August 30, 2022, concerning a meeting of the West Virginia Advisory Committee. The meeting link and meeting ID have since been updated.

FOR FURTHER INFORMATION CONTACT: Ivy Davis, idavis@usccr.gov.

Correction: In the Federal Register on Tuesday, August 30, 2022, in FR Document Number 2022-18577, on page 52903, first and second columns, correct the meeting link to: https://tinyurl.com/uf7nh7xh; correct the meeting ID to: 160 806 8277; correct the phone number to: (833) 435-1820.

Dated: November 7, 2022.
David Mussatt,
Supervisory Chief, Regional Programs Unit.

[FR Doc. 2022-24545 Filed 11-9-22; 8:45 am]

BILLING CODE 6335-01-P